BUREAU OF CONSUMER FINANCIAL PROTECTION

12 CFR Parts 1005 and 1026

[Docket No. CFPB-2014-0031]

RIN 3170-AA22

Prepaid Accounts under the Electronic Fund Transfer Act (Regulation E) and the Truth in Lending Act (Regulation Z)

Correction

In proposed rule document 2014-27286, appearing on pages 77102 through 77335 in the issue of Tuesday, December 23, 2014, make the following corrections:

1. On pages 77103 to 77104, in footnote 1, “https://.frbservices.org/files/communications/pdf/general/2013_fed_res_paymt_study_detailed_rpt.pdf” should read “https://www.frbservices.org/files/communications/pdf/general/2013_fed_res_paymt_study_detailed_rpt.pdf”.

2. On page 77105, in footnote 19, “https://www.fdic.gov/householdsurvey/report.pdf” should read “https://www.fdic.gov/householdsurvey/2013report.pdf”.

3. On page 77107, in footnote 36, “http://.com/blackhawkcomments-on-parent-company-safeways-spin-offannouncement/” should read “http://blackhawknetwork.com/blackhawk-comments-on-parent-company-safeways-spin-off-announcement/”.

4. On page 77109, in footnote 43, “http://.consumerfinance.gov/f/201309_cfpb_payroll-cardbulletin.pdf” should read “http://www.consumerfinance.gov/f/201309_cfpb_payroll-card-bulletin.pdf”.

5. On page 77120, in the third column, in the third paragraph, on the fifth and sixth line, “et se” should read “et seq.”.

6. On page 77131, in footnote 206, “https://www.consumer.ftc.gov//0182-gift-cards” should read “https://www.consumer.ftc.gov/articles/0182-gift-cards”.

7. On page 77141, in footnote 222, “http://www.federalreserve.gov/publications/es/2014_Prepaid_Cards_Final.pdf” should read “http://www.federalreserve.gov/publications/files/2014_Prepaid_Cards_Final.pdf”.

8. On page 77154, in footnote 258, “http://www.nielsen.com/content//corporate/us/en/reportsdownloads/2014%20Reports/the-digital-consumerreport-feb-2014.pdf” should read “http://www.nielsen.com/content/dam/corporate/us/en/reports-downloads/2014%20Reports/the-digital-consumer-report-feb-2014.pdf”.

9. On the same page, in the same footnote, “http://www.Federalreserve.gov//mobile-device-report-201203.pdf” should read “http://www.Federalreserve.gov/econresdata/mobile-device-report-201203.pdf”.

10. On the same page, in footnote 259, in the fifth line, “100 a.m.” should read “100 Am.”.

11. On page 77179, in footnote 296, “http://cfsinnovation.s3.amazonaws.com/_Prepaid_Industry_Scorecard_2014.pdf” should read “http://cfsinnovation.s3.amazonaws.com/CFSI_Prepaid_Industry_Scorecard_2014.pdf”.

12. On page 77227, in footnote 365, on the ninth line, “1026.4(c)(4)).” should read “1026.4(C)(4).)”.

13. On page 77262, in footnote 430, “http://.pewtrusts.org/en/research-and-analysis/reports/2014/02/06/consumers-continue-to-load-up-on-prepaid-cards” should read “http://www.pewtrusts.org/en/research-and-analysis/reports/2014/02/06/consumers-continue-to-load-up-on-prepaid-cards”.

PART 1005 [Corrected]

Supplement I to Part 1005 [Corrected]

14. In Supplement I to Part 1005, on page 77315, in the first column, in the first paragraph, on the eleventh line, “2(a)(15))-2)” should read “2(a)(15)-2)”.

15. In Supplement I to Part 1005, on the same page, in the same column, in the second paragraph, on the forty-first line, “2(a)(15))-2.i.F” should read “2(a)(15)-2.i.F”.

16. In Supplement I to Part 1005, on the same page, in the third column, in the second paragraph, on the first line, “12(a))-” should read “12(a)-”.

[FR Doc. C1-2014-27286 Filed 2-4-15; 8:45 am]

BILLING CODE 1505-01-D